DEPARTMENT OF ENERGY

Federal Energy Regulatory Commission

Notice of Site Visit

February 12, 2002.

Take notice that the following hydroelectric application has been filed with the Commission and is available for public inspection.

a. Type of Application: Amended application for new license.

b. Project No.: 1354.

c. Date filed: July 28, 2001.

d. Applicant: Pacific Gas and Electric Company.

e. Name of Project: Crane Valley.

f. Location: On Willow Creek, North Fork Willow Creek, South Fork Willow Creek, Chilkoot Creek, and Chiquito Creek within the San Joaquin River Basin. The project is in Madera and Fresno counties near the town of Oakhurst, California.

The project includes 738.11 acres of federal lands within the Sierra National Forest.

g. Filed Pursuant to: Federal Power Act, 16 U.S.C. §§ 791 (a)-825(r).

h. Applicant Contact: Mr. James Holeman (415) 973-6891 or Mr. Nicholas Markevich (415) 973-5358.

i. FERC Contact: Jim Fargo at (202) 219-2848; e-mail james.fargo@ferc.fed.us.

j. This application has been accepted, but is not ready for environmental analysis at this time.

k. The Crane Valley—with 26.7 megawatts (MW) of normal operating capacity—has storage, diversion, water conveyance, and power production facilities.

• The Crane Valley reservoir (Bass Lake) with a maximum storage capacity of 45,410 acre-feet (ac-ft) and Chilkoot reservoir, upstream of Crane valley, with a maximum capacity of 310 ac-ft.

• A small diversion on a tributary to the West Fork Chiquito Creek that brings water to Chilkoot reservoir.

• A conveyance system—including three diversion dams, three forebays, one afterbay, and about 14 miles of canals, tunnels and flumes—linking these five powerhouses:

—Crane Valley, with 0.9 MW of normal operating capacity

—San Joaquin No. 3, with 3.4 MW of normal operating capacity

—San Joaquin No. 2, with 3.2 MW of normal operating capacity

—San Joaquin No. 1A, with 0.4 MW of normal operating capacity

—Wishon, with 18.8 MW of normal operating capacity.

Historically, the project produces 123.3 gigawatthours (GWh) of electrical energy annually and has a dependable capacity of 8.4 MW.

1. Site visit: On March 12 and 13, 2002, the participants will meet at 9:00 a.m. at the registration desk at the Pines Resort at Bass Lake in Oakhurst, California. The site visit will extend to 5:00 p.m. Those interested in participating should contact Mr. Nicholas Markevich (415) 973-5358, in advance. Participants should provide their own transportation and apparel for the site visit. Participants are responsible for their own lunches; however, we will be stopping at nearby restaurants.

Magalie R. Salas,
Secretary.

[FR Doc. 02-3909 Filed 2-15-02; 8:45 am]

BILLING CODE 6717-01-P